DEPARTMENT OF ENERGY

Office of Energy Efficiency and Renewable Energy

Federal Energy Management Advisory Committee; Open Meeting

AGENCY: Department of Energy.

ACTION: Notice of open meeting.

SUMMARY: This notice announces an open meeting of the Federal Energy Management Advisory Committee. The Federal Advisory Committee Act (Public Law 92-463, 86 Stat. 770), requires that agencies publish these notices in the Federal Register to allow for public participation. This notice announces the first meeting of the Federal Energy Management Advisory Committee (FEMAC) under Executive Order 13123—“Greening the Government through Efficient Energy Management.”

DATES: Monday, October 23, 2000; 1:30 p.m. to 5:00 p.m.; Tuesday, October 24, 2000; 9:00 a.m. to 4:00 p.m.

ADDRESS: Loews L'Enfant Plaza Hotel, 480 L'Enfant Plaza, SW., Washington, DC 20024.

FOR FURTHER INFORMATION CONTACT: Steven Huff, Designated Federal Officer for the Committee, Office of Federal Energy Management Programs, U.S. Department of Energy, 1000 Independence Avenue, SW., Washington, DC 20585; (202) 586-3507.

SUPPLEMENTARY INFORMATION: Purpose of Meeting: To provide advice and guidance on the Federal Energy Management.

Tentative Agenda: Agenda will include discussions on the following:

Monday, October 23, 2000 and Tuesday October 24, 2000

• Energy-Savings Performance Contracts

• Utility energy-efficiency service contracts

• Procurement of ENERGY STAR (Registered Trademark) and other energy efficient products

• Building design

• Process energy use

• Applications of efficient and renewable energy technologies (including clean energy technologies) at Federal Facilities

• Public Comment

Public Participation: In keeping with procedures, members of the public are welcome to observe the business of the Federal Energy Management Advisory Committee. If you would like to file a written statement with the Committee, you may do so either before or after the meeting. If you would like to make oral statements regarding any of these items on the agenda, you should contact Steven Huff at (202) 586-3507 or Steven.Huff@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. The Chair will conduct the meeting to facilitate the orderly conduct of business.

Minutes: The minutes of the meeting will be available for public review and copying within 30 days at the Freedom of Information Public Reading Room; Room 1E-190; Forrestal Building; 1000 Independence Avenue, SW., Washington, DC, between 9:00 a.m. and 4:00 p.m., Monday through Friday, except Federal holidays.

Issued at Washington, DC on October 3, 2000.
Rachel M. Samuel,
Deputy Advisory Committee Management Officer.

[FR Doc. 00-25768 Filed 10-5-00; 8:45 am]

BILLING CODE 6450-01-P